NUCLEAR REGULATORY COMMISSION

Nuclear Industry Consolidation and Deregulation Issues Workshop

AGENCY: Nuclear Regulatory Commission.

ACTION: Notice of meeting.

SUMMARY: The Nuclear Regulatory Commission (NRC) will conduct a workshop on issues related to nuclear power industry consolidation and deregulation. The workshop will consist of two sessions. Session 1, “Nuclear Industry Consolidation Issues”, will be held from 8:30 a.m. to noon on Thursday, November 1, 2001. The document that forms the basis for discussion for this session is “Preliminary Impact Assessment of Nuclear Industry Consolidation on NRC Oversight (66 FR 34293, June 27, 2001).” The objectives of Session 1 are to discuss the staff's preliminary impact assessment and stakeholder comments on the assessments. Session 1 will be conducted in a “round table” format with discussions, as opposed to presentations, centered on selected focus areas related to nuclear industry consolidation. Suggested focus areas are Plant Operational Safety, Licensing, Inspection, Enforcement & Assessment, Decommissioning, Fuel Cycle Facilities, and Financial-Related Issues. Other issues of concern to the participants will also be discussed. A detailed agenda will be posted on the NRC website before the meeting. Selected staff and invited external stakeholders will be seated at the table to lead the discussions, but comments from all attendees will be entertained.

Session 2, “Effects of Deregulation on Safety—Research Issues”, will be held from 1:00 p.m. to 5:30 p.m. on Thursday, November 1, and from 8:00 a.m. to 3:30 p.m. on Friday, November 2. The document that forms the basis for discussion for this session is “Effects of Deregulation on Safety: Implications Drawn From the Aviation, Rail, and United Kingdom Nuclear Power Industries”, (NUREG/CR-6735). The primary objective of Session 2 is to recommend a research agenda for NRC to address any significant issues related to deregulation that could affect nuclear power plant safety. A detailed agenda will be posted on the NRC website before the meeting. Subject Matter Experts who have studied the effects of deregulation on safety in the aviation, rail and United Kingdom nuclear power industries, and invited external stakeholders, will be the primary discussants, however, members of the public will be invited to participate in the discussions as time permits.

Both workshop sessions will be open to the public and all interested parties may attend. All persons attending will register at the meeting.

DATES: November 1-2, 2001.

ADDRESSES: Nuclear Regulatory Commission, Two White Flint North Building (TWFN), Auditorium, 11545 Rockville Pike, Rockville, Maryland.

SCHEDULE:

November 1, 8:30 a.m. to 12:00 p.m.. Session 1. Agenda items include: Plant Operational Safety, Licensing, Inspection, Enforcement & Assessment, Decommissioning, Fuel Cycle Facilities, and Financial-Related Issues.

November 1, 1:00 p.m. to 5:30 p.m. Session 2. Agenda items include: Identification, definition, and prioritization of potential research issues.

November 2, 8 a.m. to 3:30 p.m. Session 2. Agenda items include: Potential research methods and research agenda

FOR FURTHER INFORMATION: For Session 1 contact Herbert N. Berkow, Mail Stop O 8 H12, Office of Nuclear Reactor Regulation, U.S. Nuclear Regulatory Commission, Washington, DC 20-555-0001; Telephone (301) 415-1485 and E-mail at hnb@NRC.GOV. For Session 2, contact Julius J. Persensky, Mail Stop T 10 F13A, Office of Nuclear Regulatory Research, U.S. Nuclear Regulatory Commission, Washington, DC 20555-0001; Telephone (301) 415-6759 and E-mail at jjp2@NRC.GOV.

SUPPLEMENTARY INFORMATION: The primary document for Session 1, “Preliminary Impact Assessment of Nuclear Industry Consolidation on NRC Oversight (for comment)”, is available electronically by visiting NRC's Home Page (http://www.nrc.gov/NRC/REACTOR/CONSOLIMPACT).

The primary document for Session 2, “Effects of Deregulation on Safety: Implications Drawn From the Aviation, Rail, and United Kingdom Nuclear Power Industries”, (NUREG/CR-6735), is available electronically by visiting NRC's Home Page (http://www.nrc.gov/NRC/NUREGS/CR6735). You may request a free single copy of NUREG/CR-6735 by writing to: Reproduction and Distribution Services Section, Office of the Chief Information Officer, U.S. Nuclear Regulatory Commission, Washington, DC 20555-0001, or E-mail: DISTRIBUTION@nrc.gov, or Facsimile: (301) 415-2289.

The NRC is accessible to the Red Line White Flint Metro Station. Visitor parking near the NRC buildings is limited.

Dated at Rockville, Maryland, this 15th day of October, 2001.
For the Nuclear Regulatory Commission.
Thomas L. King,
Director, Division of Systems Analysis and Regulatory Effectiveness, Office of Nuclear Regulatory Research.

[FR Doc. 01-26442 Filed 10-18-01; 8:45 am]

BILLING CODE 7590-01-P